ENVIRONMENTAL PROTECTION AGENCY

[ER-FRL-6620-7]

Environmental Impact Statements; Notice of Availability

Responsible Agency: Office of Federal Activities, General Information, (202) 564-7167 or www.epa.gov/oeca/ofa.

Weekly Receipt of Environmental Impact Statements

Filed July 30, 2001 Through August 03, 2001

Pursuant to 40 CFR 1506.9.

EIS No. 010288, DRAFT EIS, FHW, MS, East Harrison County Connector Construction, I-10 to US 90, Funding, US Army COE and US Coast Guard Permits Issuance and Possible Transfer of Federal Lands, Harrison County, MS, Comment Period Ends: September 24, 2001, Contact: Cecil W. Vick, Jr (601) 965-4217.

EIS No. 010289, DRAFT EIS, COE, PA, Dents Run Watershed Ecosystem Restoration, Construction and Operation of Six Acid Mine Drainage Abatement Projects, Implementation, Benezette Township, Susquehana River Basin, Elk County, PA, Comment Period Ends: September 24, 2001, Contact: Greg Nielson (410) 962-8111. This document is available on the Internet at: www.nab.usace.army.mil/projects/civil.htm.

EIS No. 010290, DRAFT EIS, FHW, MO, Interstate 70 Corridor Improvements, Kansas City to St. Louis, Funding, US Army COE Section 404 and 10 and US Coast Guard Section 9 Permits Issuance, several counties, MO, Comment Period Ends: September 25, 2001, Contact: Don Neumann (573) 638-2620.

EIS No. 010291, DRAFT EIS, UAF, MT, Montana Air National Guard Air-to-Ground Training Range Development for Use by the 120th Fighter Wing (120th FW), Implementation, Phillips and Blaine Counties, MT, Comment Period Ends: September 24, 2001, Contact: Maj. Tammy Mitnik (301) 836-8636.

EIS No. 010292, DRAFT EIS, AFS, AK, Helicopter Landing Tours on the Juneau Icefield 2002 to 2006, Combination Fixed-Wing and Helicopter Landing Tour Operations to Antler Glacier Lake, Special Use Permits Issuance, Tongass National Forest, City and Borough of Juneau, AK, Comment Period Ends: September 24, 2001, Contact: Laurie Thorpe (907) 790-7439. This document is available on the Internet at: www.fs.fed.us/r10/tongass/index.html.

EIS No. 010293, FINAL EIS, FHW, IN, IN-145 New Road Construction, Funding, IN-37 and the existing I-64 Interchange near St. Croix in Perry County to the east junction of IN-64 and IN-145 in Crawford County, IN, Wait Period Ends: September 10, 2001, Contact: Robert Dirks (317) 915-7492.

EIS No. 010294, DRAFT EIS, FRC, NY, Eastchester Project, Natural Gas Pipeline and Associated Facilities, (Docket Nos. CP00-232-001) Construction, Operation and Maintenance, from Northport Long Island to the Bronx, Approval and US Army COE Section 10 and 404 Permits Issuance, Bronx Borough, NY, Comment Period Ends: September 24, 2001, Contact: John Schnagl (202) 219-2661. This document is available on the Internet at: www.ferc.gov.

EIS No. 010295, DRAFT EIS, AFS, OR, WA, Plentybob Ecosystem Restoration Project, Restoration Activities include: Prescribed Fire, Timber Harvest, Road Obliteration, Hardwood Planting and Noxious Weed Treatment, Implementation, Walla Walla Ranger District, Umatilla National Forest, Umatilla County, OR, Comment Period Ends: September 24, 2001, Contact: Dennis Sedam (509) 522-6050.

EIS No. 010296, FINAL EIS, USA, MD, Fort George G. Meade Future Development and Operations of a New Administrative and Support Buildings, Anne Arundel and Howard Counties, MD, Wait Period Ends: September 10, 2001, Contact: Jim Gebhardt (301) 677-9365.

EIS No. 010297, FINAL EIS, AFS, MT, Lolo National Forest, Big Game Winter Range and Burned Area Management, Restoration, Prevention and Cooperation, Implementation, Missoula, Lake, Mineral, Sanders, Granite, Powell, Lewis and Clark, Flathead and Ravalli Counties, MT, Comment Period Ends: September 10, 2001, Contact: Andy Kulla (406) 329-3962.

EIS No. 010298, FINAL EIS, TVA, TN, AL, Guntersville Reservoir Land Management Plan, Implementation, Proposal to Update a 1983 Land Allocation Plan, Jackson and Marshall Counties, AL and Marion County, TN, Wait Period Ends: September 10, 2001, Contact: Nancy R. Greer (256) 571-4289.

Dated: August 7, 2001.
Joseph C. Montgomery,
Director, NEPA Compliance Division, Office of Federal Activities.

[FR Doc. 01-20123 Filed 8-9-01; 8:45 am]

BILLING CODE 6560-50-P